DEPARTMENT OF THE INTERIOR

National Park Service

[NPS-WASO-NAGPRA-17464; PPWOCRADN0-PCU00RP14.R50000]

Notice of Inventory Completion; U.S. Department of the Interior, National Park Service, Horseshoe Bend National Military Park, Daviston, AL

AGENCY: National Park Service, Interior.

ACTION: Notice.

SUMMARY: The U.S. Department of the Interior, National Park Service, Horseshoe Bend National Military Park has completed an inventory of an associated funerary object, in consultation with the appropriate Indian tribes or Native Hawaiian organizations, and has determined that there is a cultural affiliation between the associated funerary object and present-day Indian tribes or Native Hawaiian organizations. Lineal descendants or representatives of any Indian tribe or Native Hawaiian organization not identified in this notice that wish to request transfer of control of this associated funerary object should submit a written request to Horseshoe Bend National Military Park. If no additional requestors come forward, transfer of control of the associated funerary object to the lineal descendants, Indian tribes, or Native Hawaiian organizations stated in this notice may proceed.

DATES: Lineal descendants or representatives of any Indian tribe or Native Hawaiian organization not identified in this notice that wish to request transfer of control of this associated funerary object should submit a written request with information in support of the request to Horseshoe Bend National Military Park at the address in this notice by March 6, 2015.

ADDRESSES: Doyle Sapp, Superintendent, Horseshoe Bend National Military Park, 11288 Horseshoe Bend Road, Daviston, AL 36256, telephone (256) 234-7111, x226, email doyle_sapp@nps.gov.

SUPPLEMENTARY INFORMATION: Notice is here given in accordance with the Native American Graves Protection and Repatriation Act (NAGPRA), 25 U.S.C. 3003, of the completion of an inventory of an associated funerary object under the control of the U.S. Department of the Interior, National Park Service, Horseshoe Bend National Military Park, Daviston, AL. The associated funerary object was removed from the Taskigi site, Elmore County, AL.

This notice is published as part of the National Park Service's administrative responsibilities under NAGPRA, 25 U.S.C. 3003(d)(3). The determinations in this notice are the sole responsibility of Horseshoe Bend National Military Park.

Consultation

A detailed assessment of the associated funerary object was made by Horseshoe Bend National Military Park professional staff in consultation with representatives of the Alabama-Coushatta Tribe of Texas (previously listed as the Alabama-Coushatta Tribes of Texas); Alabama-Quassarte Tribal Town; Coushatta Tribe of Louisiana; Kialegee Tribal Town; Poarch Band of Creeks (previously listed as the Poarch Band of Creek Indians of Alabama); The Muscogee (Creek) Nation; and Thlopthlocco Tribal Town (hereafter referred to as “The Tribes”).

History and Description of the Remains

At an unknown date, a ceramic vessel was removed from the Taskigi site in Elmore County, AL by Dr. Peter A. Brannon. In 1963, Dr. Brannon donated the vessel to Horseshoe Bend National Military Park. Dr. Brannon's documentation indicates the vessel is a funerary urn, and it is morphologically similar to other funerary vessels from the Taskigi site. There are no human remains associated with the vessel, but the vessel is believed to have been made exclusively for burial purposes or to contain human remains. The one associated funerary object is a funerary urn.

The occupation of the Taskigi site has been dated from ca. A.D. 1600-1650. Documentary evidence links the site to “Tuskegee,” the historic Creek Nation tribal town. Tuskegee residents were removed to Indian Territory with other members of the Creek Nation in the 19th century. Descendants of this group now are members of several Indian tribes including Kialegee Tribal Town, Poarch Band of Creeks (previously listed as the Poarch Band of Creek Indians of Alabama), The Muscogee (Creek) Nation, and Thlopthlocco Tribal Town. The area was also historically occupied by Alabama and Coushatta peoples, who were later members of the Creek Confederacy and shared many cultural traditions with the Creek. Descendants of these groups now are members of the Alabama-Coushatta Tribe of Texas (previously listed as the Alabama-Coushatta Tribes of Texas), Alabama-Quassarte Tribal Town, and Coushatta Tribe of Louisiana.

Determinations Made by Horseshoe Bend National Military Park

Officials of Horseshoe Bend National Military Park have determined that:

• Pursuant to 25 U.S.C. 3001(3)(A), the one object described in this notice is reasonably believed to have been placed with or near individual human remains at the time of death or later as part of the death rite or ceremony and is reasonably believed to have been made exclusively for burial purposes or to contain human remains.

• Pursuant to 25 U.S.C. 3001(2), there is a relationship of shared group identity that can be reasonably traced between the associated funerary object and The Tribes.

Additional Requestors and Disposition

Lineal descendants or representatives of any Indian tribe or Native Hawaiian organization not identified in this notice that wish to request transfer of control of this associated funerary object should submit a written request with information in support of the request to Doyle Sapp, Superintendent, Horseshoe Bend National Military Park, 11288 Horseshoe Bend Road, Daviston, AL 36256, telephone (256) 234-7111 x226, email doyle_sapp@nps.gov, by March 6, 2015. After that date, if no additional requestors have come forward, transfer of control of the associated funerary object to The Tribes may proceed.

Horseshoe Bend National Military Park is responsible for notifying The Tribes that this notice has been published.

Dated: January 9, 2015.
Melanie O'Brien,
Acting Manager, National NAGPRA Program.

[FR Doc. 2015-02190 Filed 2-3-15; 8:45 am]

BILLING CODE 4312-50-P